FEDERAL COMMUNICATIONS COMMISSION

47 CFR Part 73

[DA 01-2569; MM Docket No. 99-244; RM-9678, 9873]

Radio Broadcasting Services; Cumberland, KY and Weber City, VA; Glade Spring, Marion, Richlands and Grundy, VA

AGENCY: Federal Communications Commission.

ACTION: Order to show cause.

SUMMARY: The Commission requests a written statement from Virginia-Kentucky Broadcasting Co., why its license should not be modified to specify operation on Channel 264A in lieu of Channel 249A at Grundy, Virginia, to accommodate the counterproposal filed by Holston Valley Broadcasting Corporation requesting the allotment of Channel 274A at Glade Spring, Virginia. See 14 FCC Rcd 10545 (1991). Channel 249A can be substituted at Grundy in compliance with the Commission's minimum distance separation requirements at Station WMJD(FM)'s presently licensed site. The coordinates for Channel 249A at Grundy are 37-18-08 North Latitude and 82-07-04 West Longitude.

DATES: Statements must be filed on or before December 24, 2001.

ADDRESSES: Federal Communications Commission, Washington, DC 20554. In addition to filing a written statement to FCC, Virginia-Kentucky Broadcasting Co., should serve the following: William J. Pennington, Esq., Post Office Box 403, Westfield, Massachusetts 01086 (Counsel for Cumberland City Broadcasting Co.); and Dennis J. Kelly, Esq., Post Office Box 6648, Annapolis, Maryland 21401 (Counsel for Holston Valley Broadcasting Corporation).

FOR FURTHER INFORMATION CONTACT: Sharon P. McDonald, Mass Media Bureau, (202) 418-2180.

SUPPLEMENTARY INFORMATION: This is a synopsis of the Commission's Order to Show Cause, MM Docket No. 99-244, adopted October 24, 2001, and released November 2, 2001. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 01-29087 Filed 11-20-01; 8:45 am]

BILLING CODE 6712-01-P